DEPARTMENT OF DEFENSE

Office of the Secretary

National Commission on the Future of the Army; Notice of Federal Advisory Committee Meeting

AGENCY: Department of Defense (DoD), Deputy Chief Management Officer.

ACTION: Notice of Federal Advisory Committee Meeting.

SUMMARY: The DoD is publishing this notice to announce two days of meetings of the National Commission on the Future of the Army (“the Commission”). The meetings will be partially closed to the public.

DATES: Date of the Closed Meetings: Tuesday, June 9, 2015, from 7:30 a.m. to 11:30 a.m. and Wednesday, June 10, 2015 from 12:00 p.m. to 1:00 p.m.

Date of the Open Meeting: Wednesday, June 10, 2015, from 8:00 a.m. to 10:00 a.m.

ADDRESSES: Address of Closed Meeting, June 9: FORSCOM Headquarters, 4710 Knox St. Fort Bragg North Carolina 28310.

Address of Closed Meeting June 10: North Carolina Joint Headquarters, 4105 Reedy Creek Rd, Raleigh, NC 27607.

Address of Open Meeting, June 10: Embassy Suites Meeting Room, Embassy Suites Hotel 4760 Lake Valley Dr. Fayetteville NC 28303.

FOR FURTHER INFORMATION CONTACT: Mr. Don Tison, Designated Federal Officer, National Commission on the Future of the Army, 700 Army Pentagon, Room 3E406, Washington, DC 20310-0700, Email: dfo.public@ncfa.ncr.gov, Desk (703) 692-9099. Facsimile (703) 697-8242.

SUPPLEMENTARY INFORMATION: This meeting will be held under the provisions of the Federal Advisory Committee Act (FACA) of 1972 (5 U.S.C., Appendix, as amended), the Government in the Sunshine Act of 1976 (5 U.S.C. 552b, as amended), and 41 CFR 102-3.150.

Purpose of Meetings:

During the closed meeting on Tuesday, June 9, 2015, the Commission will hear classified testimony from individual witnesses and engage in discussion on the operational environment, defense guidance, force requirements, and operational readiness.

During the open meeting on Wednesday, June 10, 2015, the Public will have the opportunity to provide verbal comments and immediately afterwards the Commission will discuss topics raised during the public comments session.

During the closed meeting on Wednesday, June 10, 2015, the Commission will hear testimony from individual witnesses on classified topics including force requirements from the Defense Planning Guidance, Contingency Plans, Defense Support to Civil Authorities, and Homeland Defense.

Agendas:

June 9, 2015—Closed Hearing: DoD military leaders will speak at the closed hearing on June 9, 2015 and have been asked to address: Operational and Mobilization issues including readiness deficiencies and force structure requirements, Current and Projected readiness (training, equipping and manning) Requirements from the Defense Planning Guidance Army Readiness levels, Roles that assigned forces contribute to the National Defense Strategy including Executive Agency Missions Issues concerning force generation and the mobilization of National Guard and Reserve units to meet Combatant Commander requirements, Total Force Policy, multi component initiatives, operational challenges, readiness levels, and deficiencies

Speakers include, but are not limited to, the Commander of Army Forces Command, Commander of the Army Reserve, Commander of 1st Army; and the Commander Army Special Operations. All presentations and resulting discussion are classified.

June 10, 2015—Open Hearing: The Commission will hear verbal comments from Public, not to exceed five minutes and immediately afterwards the Commission will discuss topics raised during the public comments session.

June 10, 2015—Closed Hearing: The Commission will hear testimony on classified topics including force requirements from the Defense Planning Guidance, Contingency Plans, Defense Support to Civil Authorities, and Homeland Defense Implementing and Total Force Policy, including multi-component initiatives. Speakers include The Adjutant General of North Carolina

Meeting Accessibility:

In accordance with applicable law, 5 U.S.C. 552b(c), and 41 CFR 102-3.155, the DoD has determined that the portion of the meetings scheduled for Tuesday, June 9, 2015, from 7:30 a.m. to 11:30 p.m. and Wednesday, June 10, 2015 from 12:00 p.m. to 1:00 p.m. will be closed to the public. Specifically, the Assistant Deputy Chief Management Officer, with the coordination of the DoD FACA Attorney, has determined in writing that this portion of the meeting will be closed to the public because it will discuss matters covered by 5 U.S.C. 552b(c)(1). Pursuant to 41 CFR 102-3.140 through 102-3.165 and the availability of space, the meeting scheduled for June 10, 2015 from 8:00 a.m. to 10:00 a.m.at the Embassy Suites Hotel is open to the public. Seating is limited and pre-registration is strongly encouraged. Media representatives are also encouraged to register. Members of the media must comply with the rules of photography and video filming in the Embassy Suites Hotel. The closest public parking facility is located on the Embassy Suites property and along the streets. Visitors should keep their belongings with them at all times. The following items are strictly prohibited: any pointed object, e.g., knitting needles and letter openers (pens and pencils are permitted); any bag larger than 18″ wide x 14″ high x 8.5″ deep; electric stun guns, martial arts weapons or devices; guns, replica guns, ammunition and fireworks; knives of any size; mace and pepper spray; razors and box cutters.

Written Comments:

Pursuant to section 10(a)(3) of the FACA and 41 CFR 102-3.105(j) and 102-3.140, the public or interested organizations may submit written comments to the Commission in response to the stated agenda of the open and/or closed meeting or the Commission's mission. The Designated Federal Officer (DFO) will review all submitted written statements. Written comments should be submitted to Mr. Donald Tison, DFO, via facsimile or electronic mail, the preferred modes of submission. Each page of the comment must include the author's name, title or affiliation, address, and daytime phone number. All comments received before Tuesday, June 2, 2015, will be provided to the Commission before the June 9, 2015, meeting. Comments received after Tuesday, June 2, 2015, will be provided to the Commission before its next meeting. All contact information may be found in the FOR FURTHER INFORMATION CONTACT section.

Oral Comments:

In addition to written statements, one and one half hours will be reserved for individuals or interest groups to address the Commission on June 10, 2015. Those interested in presenting oral comments to the Commission must summarize their oral statement in writing and submit with their registration. The Commission's staff will assign time to oral commenters at the meeting, for no more than five minutes each. While requests to make an oral presentation to the Commission will be honored on a first come, first served basis, other opportunities for oral comments will be provided at future meetings.

Registration: Individuals and entities who wish to attend the public hearing and meeting on Wednesday, June 10, 2015 are encouraged to register for the event with the Designated Federal Officer using the electronic mail and facsimile contact information found in the FOR FURTHER INFORMATION CONTACT section. The communication should include the registrant's full name, title, affiliation or employer, email address, day time phone number. This information will assist the Commission in contacting individuals should it decide to do so at a later date. If applicable, include written comments and a request to speak during the oral comment session. (Oral comment requests must be accompanied by a summary of your presentation.) Registrations and written comments should be typed.

Additional Information

The DoD sponsor for the Commission is the Deputy Chief Management Officer. The Commission is tasked to submit a report, containing a comprehensive study and recommendations, by February 1, 2016 to the President of the United States and the Congressional defense committees. The report will contain a detailed statement of the findings and conclusions of the Commission, together with its recommendations for such legislation and administrative actions it may consider appropriate in light of the results of the study. The comprehensive study of the structure of the Army will determine whether, and how, the structure should be modified to best fulfill current and anticipated mission requirements for the Army in a manner consistent with available resources.

Dated: May 19, 2015.
Aaron Siegel,
Alternate OSD Federal Register Liaison Officer, Department of Defense.

[FR Doc. 2015-12564 Filed 5-22-15; 8:45 am]

BILLING CODE 5001-06-P